COMMODITY FUTURES TRADING COMMISSION

Agency Information Collection Activities Under OMB Review

AGENCY: Commodity Futures Trading Commission.

ACTION: Notice.

SUMMARY: In compliance with the Paperwork Reduction Act of 1995 (“PRA”), this notice announces that the Information Collection Request (“ICR”) abstracted below has been forwarded to the Office of Management and Budget (“OMB”) for review and comment. The ICR describes the nature of the information collection and its expected costs and burden.

DATES: Comments must be submitted on or before September 28, 2015.

ADDRESSES: Comments regarding the burden estimated or any other aspect of the information collection, including suggestions for reducing the burden, may be submitted directly to the Office of Information and Regulatory Affairs (“OIRA”) in OMB, within 30 days of the notice's publication, by email at OIRAsubmissions@omb.eop.gov. Please identify the comments by OMB Control No. 3038-0093. Please provide the Commission with a copy of all submitted comments at the address listed below. Please refer to OMB Reference No. 201203-3038-005, found on http://reginfo.gov.

Comments may also be mailed to the Office of Information and Regulatory Affairs, Office of Management and Budget, Attention: Desk Officer for the Commodity Futures Trading Commission, 725 17th Street NW., Washington, DC 20503, and to: Christopher Kirkpatrick, Secretary of the Commission, Commodity Futures Trading Commission, 1155 21st Street NW., Washington, DC 20581; or by Hand Delivery/Courier at the same address; or through the Agency's Web site at http://comments.cftc.gov. Follow the instructions for submitting comments through the Web site.

A copy of the supporting statements for the collection of information discussed above may be obtained by visiting http://RegInfo.gov. All comments must be submitted in English, or if not, accompanied by an English translation. Comments will be posted as received to www.cftc.gov.

FOR FURTHER INFORMATION CONTACT: Lois Gregory, Associate Director, Division of Market Oversight, Commodity Futures Trading Commission, (202) 418-5569, email: lgregory@cftc.gov, and refer to OMB Control No. 3038-0093.

SUPPLEMENTARY INFORMATION: Title: Part 40, Provisions Common To Registered Entities (OMB Control No. 3038-0093). This is a request for extension of a currently approved information collection.

Abstract: This collection of information involves the collection and submission to the Commission of information from registered entities concerning new products, rules, and rule amendments pursuant to the procedures outlined in §§ 40.2, 40.3, 40.5, 40.6, and 40.10 found in 17 CFR part 40.

Burden Statement: Registered entities must comply with certification and approval requirements which include an explanation and analysis when seeking to implement new products, rules, and rule amendments, including changes to product terms and conditions. The Commission's regulations §§ 40.2, 40.3, 40.4, 40.5, 40.6 and 40.10 provide procedures for the submission of rules and rule amendments by designated contract markets, swap execution facilities, derivatives clearing organizations, and swap data repositories. They establish the procedures for submitting the “written certification” required by Section 5c of the Commodity Exchange Act (“Act”). In connection with a product or rule certification, the registered entity must provide a concise explanation and analysis of the submission and its compliance with statutory provisions of the Act. Accordingly, new rules or rule amendments must be accompanied by concise explanations and analyses of the purposes, operations, and effects of the submissions. This information may be submitted as part of the same submission containing the required “written certification.”

Respondents/Affected Entities: Designated Contract Markets, Swap Execution Facilities, Derivatives Clearing Organizations, and Swap Data Repositories.

• Rules 40.2, 40.3, 40.5, and 40.6

Estimated Number of Respondents: 70.

Annual Responses by each Respondent: 100.

Estimated Hours per Response: 2.

Estimated Total Hours per Year: 14,000.

• Rule 40.10

Estimated Number of Respondents: 4.

Annual Responses by each Respondent: 2.

Estimated Hours per Response: 5.

Estimated Total Hours per Year: 40.

(Authority: 44 U.S.C. 3501 et seq.)

Dated: August 24, 2015.
Robert N. Sidman,
Deputy Secretary of the Commission.

[FR Doc. 2015-21268 Filed 8-26-15; 8:45 am]

BILLING CODE 6351-01-P